ENVIRONMENTAL PROTECTION AGENCY

[EPA-HQ-OEI-2011-0349; FRL-9441-3]

Amendment of OIG Hotline Allegation System (EPA-30)

AGENCY: Environmental Protection Agency.

ACTION: Notice.

SUMMARY: Pursuant to the provisions of the Privacy Act of 1974 (5 U.S.C. 552a), the Office of Inspector General (OIG) is giving notice that it proposes to amend an existing system of records by changing the name of the system from the Office of Inspector General (OIG) Hotline Allegation System (EPA-30) to the Inspector General Enterprise Management System (IGEMS) Hotline Module.

DATES: Effective Dates: Persons wishing to comment on this system of records notice must do so by August 29, 2011.

ADDRESSES: Submit your comments, identified by Docket ID No. EPA-HQ-OEI-2011-0349, by one of the following methods:

• http://www.regulations.gov: Follow the online instructions for submitting comments.

• E-mail: oei.docket@epa.gov.

• Fax: 202-566-1752.

• Mail: OEI Docket, Environmental Protection Agency, Mailcode: 2822T, 1200 Pennsylvania Ave., NW., Washington, DC 20460.

• Hand Delivery: OEI Docket, EPA/DC, EPA West Building, Room 3334, 1301 Constitution Ave., NW., Washington, DC. Such deliveries are only accepted during the Docket's normal hours of operation, and special arrangements should be made for deliveries of boxed information.

Instructions: Direct your comments to Docket ID No. EPA-HQ-OEI-2011-0349. EPA's policy is that all comments received will be included in the public docket without change and may be made available online at http://www.regulations.gov, including any personal information provided, unless the comment includes information claimed to be Confidential Business Information (CBI) or other information for which disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information for which disclosure is restricted by statute. Certain other material, such as copyrighted material, will be publicly available only in hard copy. Publicly available docket materials are available either electronically in http://www.regulations.gov or in hard copy at the OEI Docket, EPA/DC, EPA West Building, Room 3334, 1301 Constitution Ave., NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Chris Han, 202-566-2939

SUPPLEMENTARY INFORMATION:

I. General Information

The OIG Hotline Allegation System (EPA-30) will be changed to the Inspector General Enterprise Management System (IGEMS) Hotline Module. This system fulfills our responsibilities under Section 7 of the Inspector General Act, that is to receive and investigate complaints of information concerning the possible existence of activities constituting a violation of law, rules, or regulations, mismanagement, gross waste of funds, abuse of authority or a substantial and specific danger to the public health or safety, and the subject of the complaints. The privacy of individuals is protected through user authentication and system roles, permissions and privileges. The system is operated and maintained by the Office of Inspector General, Office of Mission Systems.

Dated: July 8, 2011.
Malcolm D. Jackson,
Assistant Administrator and Chief Information Officer.

EPA-30

System Name:

Inspector General Enterprise Management System (IGEMS) Hotline Module.

System Location:

Office of Inspector General, Environmental Protection Agency, 1200 Pennsylvania Avenue NW., Washington, DC 20460.

Categories of Individuals Covered by the System:

Persons who report information to the Office of Inspector General (OIG) concerning the possible existence of activities constituting a violation of law, rules, or regulations, mismanagement gross waste of funds, abuse of authority, or a substantial and specific danger to the public health or safety and the subject of the complaints; persons about whom complaints are made; and possible witnesses identified.

Categories of Records in the System:

Complainants who report indications of wrongdoing, name and address of the complainant (except for anonymous complainants), date complaint received, program area, nature and subject of complaint, any additional contacts and specific comments provided by the complainant, information on the OIG disposition of the complaint, including investigative case number, preliminary inquiry number, dates of referral, reply and follow-up, status and disposition code of the complaint.

Authority for Maintenance of the System (includes any revisions or amendments):

Inspector General Act of 1978, 5 U.S.C. app. 3.

Purpose(s):

Fulfills OIG's responsibilities under Section 7 of the Inspector General Act, that is to receive and investigate complaints of information concerning the possible existence of activities constituting a violation of law, rules or regulations, mismanagement, gross waste of funds, abuse of authority or a substantial and specific danger to the public health or safety, and the subject of the complaints.

Routine Uses of Records Maintained in the System, Including Categories of Users, and the Purposes of Such Uses:

General routine uses A, B, C, D, E, F, G, H, I, J, K, and L apply to this system. Records may also be disclosed:

1. To a Federal agency responsible for considering suspension or debarment action where such record would be relevant to such action.

2. To the Department of Justice to obtain its advice on Freedom of Information Act matters.

3. In response to a lawful subpoena issued by a Federal agency.

Policies and Practices for Storing, Retrieving, Accessing, Retaining, and Disposing of Records in the System:

Storage:

Hard copy files and a computer database.

Retrievability:

By case number, complainant or subject name, and subject matter.

Safeguards:

Computer records are maintained in a secure, password protected computer system. Paper records are maintained in lockable file cabinets. All records are maintained in secure, access-controlled areas or buildings.

Retention and Disposal:

Records stored in this system are subject to EPA Schedule 703.

System Manager(s) and Address:

Assistant Inspector General for Mission Systems, Office of Inspector General, Environmental Protection Agency, 1200 Pennsylvania Avenue NW., Washington, DC 20460.

Notification Procedures:

Requests to determine whether this system of records contains a record pertaining to you must be sent to the Agency's Freedom of Information Office. The address is: U.S. Environmental Protection Agency, 1200 Pennsylvania Ave., NW., Room 6416 West, Washington, DC 20460; (202) 566-1667; E-mail: (hq.foia@epa.gov); Attn: Privacy Act Officer.

Record Access Procedure:

To the extent permitted under the Privacy Act of 1974, 5 U.S.C. 552a(k)(2), this system has been exempted from the provisions of the Privacy Act of 1974 that permit access and correction. However, EPA may, in its discretion, fully grant individual requests for access and correction if it determines that the exercise of these rights will not interfere with an interest that the exemption is intended to protect. The exemption from access is limited in some instances by law to information that would reveal the identity of a confidential source. Requesters will be required to provide adequate identification, such as a driver's license, employee identification card, or other identifying document. Additional identification procedures may be required in some instances.

Contesting Procedure:

Requests for correction or amendment must identify the record to be changed and the corrective action sought. Complete EPA Privacy Act procedures are set out in 40 CFR Part 16.

Record Source Categories:

Complainants who are employees of EPA; employees of other Federal agencies; employees of state and local agencies; and private citizens. Records in the system come from complainants through the telephone, mail, personal interviews, and Internet Web Site. Because security cannot be guaranteed on the Internet site, complainants are advised that information they provide through the Internet site may not be confidential.

Systems Exempted From Certain Provisions of the Act:

Pursuant to 5 U.S.C. 552a(k)(2), this system is exempt from the following provisions of the Privacy Act of 1974, subject to the limitations set forth in that subsection: 5 U.S.C. 552a (c)(3); (d); (e)(1); (e)(4)(G); (e)(4)(H); and (f)(2) through (5).

[FR Doc. 2011-18161 Filed 7-18-11; 8:45 am]

BILLING CODE 6560-50-P